NUCLEAR REGULATORY COMMISSION

[Docket No. 50-344]

In the Matter of Portland General Electric Company (Trojan Nuclear Plant); Exemption

I.

Portland General Electric Company is the holder of Facility Operating License No. NPF-1, which authorizes the licensee to possess the Trojan Nuclear Plant (TNP). The license states, in part, that the facility is subject to all the rules, regulations, and orders of the U.S. Nuclear Regulatory Commission (the Commission or NRC) now or hereafter in effect. The facility was originally licensed as a pressurized water reactor located at the licensee's site in Columbia County, Oregon. The facility is permanently shut down and defueled and the licensee is no longer authorized to operate or place fuel in the reactor.

II.

Section 50.54(q) of Title 10 of the Code of Federal Regulations states in part that “A licensee authorized to possess and operate a nuclear power reactor shall follow and maintain in effect emergency plans which meet the standards in § 50.47(b) and the requirements in appendix E of this part.”

Section 50.47 of Title 10 of the Code of Federal Regulations, “Emergency plans,” states in part in paragraph (b) that “The onsite and, except as provided in paragraph (d) of this section, offsite emergency response plans for nuclear power reactors must meet the following standards:” and then sets forth 16 emergency planning requirements.

Appendix E to Part 50 of Title 10 of the Code of Federal Regulations, “Emergency Planning and Preparedness for Production and Utilization Facilities,” states, in part:

Each applicant for an operating license is required by § 50.34(b) to include in the final safety analysis report plans for coping with emergencies* * * . The applicant's emergency plans shall contain, but not necessarily be limited to, information needed to demonstrate compliance with the elements set forth below, i.e., organization for coping with radiation emergencies, assessment action, activation of emergency organization, notification procedures, emergency facilities and equipment, training, maintaining emergency preparedness, and recovery. In addition, the emergency response plans submitted by an applicant for a nuclear power reactor operating license shall contain information needed to demonstrate compliance with the standards described in § 50.47(b), and they will be evaluated against those standards. The nuclear power reactor operating license applicant shall also provide an analysis of the time required to evacuate and for taking other protective actions for various sectors and distances within the plume exposure pathway EPZ [Emergency Planning Zone] for transient and permanent populations.

By letter dated August 27, 1998, as supplemented by letter dated July 1, 1999, the licensee requested an exemption from the emergency planning requirements of 10 CFR 50.54(q), 10 CFR 50.47(b), and Appendix E to 10 CFR part 50. Sections 50.54(q) and 50.47(b), and Appendix E to 10 CFR part 50 provide emergency planning requirements to protect the health and safety of the public in the event of an accident at a licensed power reactor site. The exemption from the emergency planning requirements for the Trojan Nuclear Plant will be effective after the spent fuel has been removed from the reactor site and relocated to the new independent spent fuel storage installation (ISFSI), which is not part of the reactor site. The new ISFSI has been licensed under 10 CFR part 72 for storage facilities not associated with a reactor site and possesses an approved emergency plan as required by 10 CFR 72.32.

III.

Pursuant to 10 CFR 50.12, “Specific exemptions,” the Commission may, upon application by any interested person or upon its own initiative, grant exemptions from the requirements of the regulations of 10 CFR part 50, which are (1) authorized by law, will not present an undue risk to the public health and safety, and are consistent with the common defense and security; and (2) present special circumstances. Section 50.12(a)(2) identifies special circumstances as being present whenever application of the regulation in the particular circumstances would not serve the underlying purpose of the rule or is not necessary to achieve the underlying purpose of the rule; compliance would result in undue hardship or costs that are significantly in excess of those incurred by others similarly situated; or circumstances exist that were not considered when the regulation was adopted for which it would be in the public interest to grant an exemption.

The movement of the spent nuclear fuel from the Trojan Plant to the ISFSI and removal of the reactor vessel and internals from the site removes the available radiological source terms for credible accident scenarios. The sources remaining in the Trojan plant area are comparable to those in the possession of many source and byproduct licensees and for whose sites emergency plans are not required to protect the public health and safety. The continued application of 10 CFR part 50 emergency plan requirements would require the licensee to expend significantly more funds for emergency preparedness than other licensees possessing similar source terms at a single site. Accordingly, special circumstances, as defined by 10 CFR 50.12(a)(2)(iii), are present.

Section 72.32 establishes emergency planning requirements for spent nuclear fuel stored under a specific license issued pursuant to 10 CFR part 72. The Trojan ISFSI has an emergency plan, approved by the NRC on March 31, 1999, to protect the public health and safety in the event of an accident. The Commission has determined that the existing 10 CFR Part 50 requirements need to be maintained at the Trojan Nuclear Plant until the spent fuel located in the spent fuel pool is physically relocated from the defueled site to the new security area at the ISFSI. Upon meeting this criterion, the NRC finds the exemption from the emergency planning requirements for a power reactor site acceptable since new assurance objectives and general performance requirements will be in place by the emergency planning requirements in 10 CFR 72.32.

IV.

Accordingly, the Commission has determined that, pursuant to 10 CFR 50.12(a), this exemption is authorized by law, will not endanger life or property or the common defense and security, and is otherwise in the public interest. Therefore, the Commission hereby grants Portland General Electric Company an exemption from the requirements of 10 CFR 50.54(q), 10 CFR 50.47(b), and Appendix E to 10 CFR part 50 at the Trojan Nuclear Plant, effective upon completion of the relocation of all the spent nuclear fuel from the spent fuel pool to the ISFSI.

Pursuant to 10 CFR 51.32, the Commission has determined that this exemption will not have a significant effect on the quality of the human environment (64 FR 46423).

This exemption is effective upon completion of the transfer of the spent nuclear fuel at the Trojan Nuclear Plant to the Trojan independent spent fuel storage installation.

For the Nuclear Regulatory Commission.
Dated at Rockville, Maryland, this 25th day of April 2000.
John A. Zwolinski,
Director, Division of Licensing Project Management, Office of Nuclear Reactor Regulation.

[FR Doc. 00-10742 Filed 4-28-00; 8:45 am]

BILLING CODE 7590-01-P